DEPARTMENT OF HOMELAND SECURITY

Federal Emergency Management Agency

[Docket ID NRC-2010-0080]

NUREG-0654/FEMA-REP-, Rev. 1, Supplement 3, Guidance for Protective Action Recommendations for General Emergencies; Draft for Comment

AGENCY: Federal Emergency Management Agency, DHS.

ACTION: Notice of meeting and extension of public comment period.

SUMMARY: The Federal Emergency Management Agency (FEMA) and the Nuclear Regulatory Commission (NRC) are reopening the comment period and announcing the date, time and location for one in a series of public meetings that will be held to discuss the proposed Supplement 3 to NUREG-0654/FEMA-REP-1, Rev.1, Guidance for Protective Action Recommendations for General Emergencies (NUREG Supp 3). NUREG Supp 3 addresses onsite and offsite nuclear power plant preparedness.

DATES: Meeting Date: The meeting will be held on Wednesday, June 9, 2010 from 1 p.m.-4 p.m. (Central Daylight Time).

Registration Date: Those interested in participating in this meeting by teleconference or webconference should call or e-mail the person listed below in the FOR FURTHER INFORMATION CONTACT section as soon as possible, but no later than 1 p.m. (Eastern Standard Time) on Tuesday, June 8, 2010.

Comment Period: The public comment period originally scheduled to close on May 24, 2010, has been extended to August 9, 2010.

ADDRESSES: The meeting will be held at the Radisson Hotel La Crosse, 200 Harborview Plaza, La Crosse, Wisconsin 54601; Ph: 608-784-6680.

You may submit comments on the proposed Supplement 3, identified by Docket ID NRC-2010-0080, by visiting http://www.regulations.gov. Follow the instructions listed on how to submit comments. (Note: This process applies to all government requests for comments—even though as in the case of this draft guidance document, they may not be for regulatory purposes). For further information and methods for submitting comments, see the “Announcement of Issuance for Public Comment, Availability” (at 75 FR 10524, on March 8, 2010) or call or e-mail the contact person listed below in the FOR FURTHER INFORMATION CONTACT section.

FOR FURTHER INFORMATION CONTACT: Michelle Ralston, Emergency Management Specialist, Professional Services and Integration Branch, Technological Hazards Division, Protection and National Preparedness, michelle.ralston@dhs.gov, (202) 212-2310.

SUPPLEMENTARY INFORMATION: These meetings will be conducted jointly by the Nuclear Regulatory Commission (NRC) and the Federal Emergency Management Agency (FEMA) and will address Supplement 3 to NUREG-0654/FEMA-REP-1, Rev.1, Guidance for Protective Action Recommendations for General Emergencies (NUREG Supp 3). Draft NUREG Supp 3 has been proposed by these two agencies to address emergency planning and preparedness for Nuclear Power Plants. This document addresses both onsite (the plants themselves) and offsite (State, local, Tribal offsite response organizations) planning and preparedness. FEMA and the NRC are soliciting comments for the joint document through the notice of availability, titled “Announcement of Issuance for Public Comment, Availability” (75 FR 10524, published on March 8, 2010). The document is available at http://www.regulations.gov (Docket ID NRC-2010-0080). Please note that the public comment period on this document has been extended to August 9, 2010.

NUREG-0654/FEMA-REP-1, Rev. 1, is a joint FEMA/NRC policy document that contains the Evaluation Criteria that FEMA and the NRC use to determine compliance with the 16 Planning Standards that are located in FEMA's regulations at 44 CFR 350.5, and the NRC's regulations at 10 CFR part 50. The agencies use these Planning Standards, and associated Evaluation Criteria, to measure the adequacy of emergency preparedness plans of Nuclear Power Plant (NPP) owners and operators and the State, local, and Tribal jurisdictions in which they are sited.

NUREG Supp 3 provides additional guidance directed to NPP licensees, State, local, and Tribal jurisdictions. Elements of this draft guidance include increased offsite response organization involvement in the development of protective action strategies, consideration of staged evacuation as the initial protective action at General Emergency, increased use of shelter-in-place for certain scenarios, and guidance to improve communications with the public before and during an emergency. The substance of this joint draft guidance aligns with changes proposed in the NRC Notice of Proposed Rulemaking entitled “Enhancements to Emergency Preparedness Regulations” (74 FR 23254, published on May 18, 2009), and Interim Staff Guidance as well as the changes proposed in FEMA's draft Radiological Emergency Preparedness Program Manual and Supplement 4 to NUREG-0654/FEMA-REP-1, Rev.1 (74 FR 23198 published on May 18, 2009).

The purpose of these public meetings is to (1) Introduce the proposed draft guidance jointly; (2) answer questions about the proposed draft guidance document and to describe the next steps in the guidance document process; (3) ensure openness during the guidance document process; (4) provide additional opportunities for public participation in the guidance document process; and, (5) build positive relations, confidence, and trust in the guidance document process.

Public Meeting Date, Time, and Location:

Wednesday, June 9, 2010.

Meeting Location: Radisson Hotel La Crosse, 200 Harborview Plaza, La Crosse, Wisconsin 54601; Ph: 608-784-6680.

Times: 1 p.m.-4 p.m. (Central Daylight Time); Please note that the meeting may close early if all business is finished.

Two additional meetings, with precise times and locations yet to be determined, are tentatively scheduled for the month of July, 2010. When these meeting times and locations are confirmed, a notice will be published in the Federal Register.

Teleconferencing: Interested members of the public unable to attend the meeting may participate by telephone via a toll-free teleconference. For details, please call the contact person listed in the FOR FURTHER INFORMATION CONTACT section. Those interested in participating in this meeting by teleconference should call or email the person listed in the FOR FURTHER INFORMATION CONTACT section as soon as possible, but no later than 1 p.m. (Eastern Standard Time) on Tuesday, June 8, 2010.

Webconferencing: Interested members of the public unable to attend the meeting may participate remotely on the internet. For details, please call the contact person listed in the FOR FURTHER INFORMATION CONTACT section as soon as possible, but no later than 1 p.m. (Eastern Standard Time) on Tuesday, June 8, 2010.

Information on Services for Individuals With Disabilities

FEMA provides reasonable accommodations to individuals with disabilities where appropriate. If you need a reasonable accommodation to participate in this meeting (e.g., sign language), or need this meeting notice or other information from the meeting in another format, please notify the person listed above in the FOR FURTHER INFORMATION CONTACT section as soon as possible so that arrangements can be made.

Timothy W. Manning,
Deputy Administrator, Protection and National Preparedness, Federal Emergency Management Agency.

[FR Doc. 2010-13711 Filed 6-7-10; 8:45 am]

BILLING CODE 9110-21-P